DEPARTMENT OF COMMERCE

International Trade Administration

Announcement of Postponement of Approved International Trade Administration Trade Mission

AGENCY: International Trade Administration, Department of Commerce.

SUMMARY: The United States Department of Commerce, International Trade Administration (ITA), is announcing the postponement of the Sub-Saharan Africa Rail and Port (SSARP) Trade Mission to South Africa and Angola, announced in the Notice published in the Federal Register on May 3, 2024.

SUPPLEMENTARY INFORMATION:

Background

The Department of Commerce is postponing the Sub-Saharan Africa Rail and Port Trade Mission to South Africa and Angola announced May 03, 2024 (89 FR 36756) as scheduled for August 19-24, 2024. The Sub-Saharan Africa Rail and Port Trade Mission to South Africa and Angola has been postponed to 2025 with the specific dates to be confirmed. ITA will publish another announcement with the dates once confirmed.

Contact Information

Luke Yanos, Senior International Trade Specialist, U.S. Commercial Service Chicago, +1 (872) 327-8038, Luke.Yanos@trade.gov

Matthew Case, Commercial Officer, U.S. Commercial Service Boston, +1 (617) 565-4309, Matthew.Case@trade.gov

Michel E. Nouafo, Senior International Trade Specialist, U.S. Commercial Service Cleveland, +1 (216) 695-5338, Michel.Nouafo@trade.gov

Forrest Nielsen, International Trade Specialist, Industry & Analysis, +1 (202) 839-2363, Forrest.Nielsen@trade.gov

Mashal Shabbir, Desk Officer, Global Markets, Mashal.Shabbir@trade.gov

Ian Cook, International Trade Specialist, Industry & Analysis, +1 (202) 617-5303, Ian.Cook@trade.gov

Heather McLeod, Commercial Officer, U.S. Commercial Service Luanda, Heather.Mcleod@trade.gov

Mauro Fonseca, Commercial Assistant, U.S. Commercial Service Luanda, Mauro.Fonseca@trade.gov

Juanita Harthun, Automotive and Smart Mobility Team Leader, U.S. Commercial Service Charlotte, Juanita.Harthun@trade.gov

Richard Boll, Senior International Trade Specialist, Industry & Analysis, Richard.Boll@trade.gov

Ryan Russell, Director, U.S. Commercial Service Pittsburgh, Ryan.Russell@trade.gov

John Tracy, Senior International Trade Specialist, ,U.S. Commercial Service Syracuse, John.Tracy@trade.gov

Gemal Brangman,
Director, ITA Events Management Task Force.

[FR Doc. 2024-18882 Filed 8-22-24; 8:45 am]

BILLING CODE 3510-Dr-P